ENVIRONMENTAL PROTECTION AGENCY

[ER-FRL-6659-3]

Environmental Impact Statements; Notice of Availability

Responsible Agency: Office of Federal Activities, General Information (202) 564-7167 or http://www.epa.gov/compliance/nepa/.

Weekly receipt of Environmental Impact Statements filed December 27, 2004 through December 30, 2004 pursuant to 40 CFR 1506.9.

EIS No. 040603, Final EIS, NPS, TX, Rio Grande Wild and Scenic River General Management Plan, Implementation, Big Bend National Park, Brewster and Terrell Counties, TX, Wait Period Ends: February 7, 2005, Contact: Mathew Safford (303) 969-2898.

EIS No. 040604, Draft EIS, UAF, NM, New Mexico Training Initiative, Proposal to Modify the Training Airspace New Cannon Air Force Base (AFB), NM, Comment Period Ends: February 22, 2005, Contact: Brenda Cook (505) 784-4131.

Amended Notices

EIS No. 040598, Final EIS, AFS, ID, Caribou Sheep Allotment Management Plan Revision, Authorize Continue Livestock Grazing, Caribou-Targhee National Forest, Palisades Ranger District, Bonneville County, ID, Wait Period Ends: January 31, 2005, Contact: Greg Hanson (208) 523-1412. Revision of FR Notice Published on 12/30/2004: CEQ wait period ending 1/30/2005 corrected to 1/31/2005.

EIS No. 040599, Final Supplement, FTA, NY, Erie Canal Harbor Project (formerly known as the Buffalo Inner Harbor Development Project) Updated Information on the Original Project, City of Buffalo, Erie County, NY, Wait Period Ends: January 31, 2005, Contact: Irwin Kessman (212) 668-2170. Revision of FR Notice Published on 12/30/2004: CEQ wait period ending 1/30/05 corrected to 1/31/2005.

EIS No. 040601, Final EIS, NRS, Programmatic EIS—Emergency Watershed Protection Program, Improvements and Expansion, To Preserve Life and Property Threatened by Disaster-Caused Erosion and Flooding, U.S. 50 States and Territories except Coastal Area, Wait Period Ends: January 31, 2005, Contact: Victor Cole (202) 690-4575. Revision of FR Notice published on 12/30/2004: CEQ wait period ending 1/30/2005 corrected to 1/31/2005.

Dated: January 5, 2005.
Robert W. Hargrove,
Director, NEPA Compliance Division, Office of Federal Activities.

[FR Doc. 05-340 Filed 1-6-05; 8:45 am]

BILLING CODE 6560-U-P